DEPARTMENT OF LABOR

Employment and Training Administration

Derecognition of California Department of Industrial Relations and California Apprenticeship Council

Authority: 29 U.S.C. 50, 40 U.S.C. 3141 et seq., 29 CFR parts 29 and 30, and 29 CFR 5.5(a)(4).

AGENCY: Employment and Training Administration (ETA), Labor.

ACTION: Notice.

SUMMARY: On January 31, 2007, the U.S. Department of Labor (DOL) Administrative Review Board (ARB), acting under authority delegated by the Secretary of Labor, issued a Final Decision and Order that withdrew recognition, for Federal purposes, from the California Department of Industrial Relations (CDIR) and the California Apprenticeship Council (CAC), which constitute California's State Apprentice Council (SAC). Therefore, under the implementing regulations (29 CFR part 29) for the National Apprenticeship Act (29 U.S.C. 50), the SAC no longer has the authority to register or oversee apprenticeship programs for “Federal purposes.” Accordingly, apprenticeship programs registered in California must register with DOL's Office of Apprenticeship (OA), if they wish to pay apprentice wages at the rates authorized under the regulations implementing the Davis-Bacon and related acts. This notice sets out the process for accomplishing the transition from SAC registration to OA registration, for Federal purposes.

DATES: After March 2, 2007, (30 days after the date of the ARB's order withdrawing recognition of California's registration agency), the Department shall cease to recognize, for Federal purposes, each apprenticeship program registered with the State of California, unless the program sponsor requests registration with OA by March 2, 2007.

FOR FURTHER INFORMATION CONTACT: Mr. Anthony Swoope, Administrator, Office of Apprenticeship, U.S. Department of Labor, Room N-5311, 200 Constitution Avenue, NW., Washington, DC 20210. Telephone: (202) 693-2796, (this is not a toll-free number).

SUPPLEMENTARY INFORMATION: In May 2002, the Office of Apprenticeship (OA) initiated derecognition proceedings against the California Department of Industrial Relations (CDIR) and California Apprenticeship Council (CAC) (referred to collectively as the California State Apprentice Council (SAC)), on the grounds that California Labor Code section 3075(b) did not conform to OA's regulations at 29 CFR part 29, because the State law established a “needs test” which limited, rather than promoted, apprenticeship opportunity. The SAC appealed, so the matter was assigned to an Administrative Law Judge (ALJ) for preliminary findings and the preparation of a recommended decision. In April 2005, the ALJ agreed with OA that the “needs test” did not conform to 29 CFR part 29, recommending derecognition on that ground. The Department's Administrative Review Board (ARB), exercising authority delegated by the Secretary, reviewed the ALJ's recommended findings and decision. On January 31, 2007, the ARB issued a Final Decision and Order (DOL, Office of Apprenticeship (OA) v. California Department of Industrial Relations (CDIR) and the California Apprenticeship Council (CAC), ARB Case No. 05-093) that adopted the ALJ's findings, thereby completing the agency's derecognition process.

DOL hereby gives public notice, as required by 29 CFR 29.13(d), that the Department has withdrawn recognition, for Federal purposes, from both CDIR and CAC. The CDIR and the CAC no longer have the authority to register or oversee apprenticeship programs for “Federal purposes.” See 29 CFR 29.2(k). Apprenticeship programs registered in California must register with OA, if they wish to pay apprentice wages at the rates authorized under the regulations implementing the Davis-Bacon and related acts. See 29 CFR 5.5(a)(4).

As required by 29 CFR 29.13(d), OA hereby provides notice that, after March 2, 2007 (30 days after the date of the ARB's order withdrawing recognition of California's registration agency), the Department shall cease to recognize, for Federal purposes, each apprenticeship program registered with the State of California, unless within that time, the program sponsor requests registration with OA.

OA may grant the request for registration contingent upon its finding that the State apprenticeship program is operating in accordance with the requirements of 29 CFR part 29, pertaining to the registration of programs and apprentices and of 29 CFR part 30, pertaining to equal employment opportunity. OA shall make a finding on this issue within 30 days of receipt of the request. If the finding is in the negative, the State sponsor shall be notified in writing that the contingent OA registration has been revoked. If the finding is in the affirmative, the State sponsor shall be notified in writing that the contingent OA registration is made permanent.

As required by 29 CFR 29.13(e), if the sponsor fails to request OA registration, or upon a finding of noncompliance pursuant to a contingent OA registration, OA shall provide written notice to such State sponsor, advising the recipient that any actions or benefits applicable to recognition for Federal purposes are no longer available to participants in its apprenticeship program.

As required by 29 CFR 29.13(f), the notice issued under § 29.13(e) shall also direct the State sponsor to notify, within 15 days, all its registered apprentices of the withdrawal of recognition for Federal purposes; the effective date thereof; and that such withdrawal removes the apprentice from coverage under any Federal provision applicable to his/her individual registration under a program recognized or registered by the OA for Federal purposes.

Signed at Washington, DC this 26th day of February 2007.
Emily Stover DeRocco,
Assistant Secretary for Employment and Training.

[FR Doc. E7-3616 Filed 3-1-07; 8:45 am]

BILLING CODE 4510-30-P